ENVIRONMENTAL PROTECTION AGENCY

[FRL-7268-1]

FY03 Wetland Program Development Grants Guidelines

AGENCY: Environmental Protection Agency.

ACTION: Notice.

SUMMARY: Wetland Program Development Grants (WPDGs) provide eligible applicants an opportunity to conduct projects that promote the coordination and acceleration of research, investigations, experiments, training, demonstrations, surveys, and studies relating to the causes, effects, extent, prevention, reduction, and elimination of water pollution. While WPDGs can continue to be used by recipients to build and refine any element of a comprehensive wetland program, priority will be given to funding projects that address the three areas identified by EPA for FY03: Developing a comprehensive monitoring and assessment program; improving the effectiveness of compensatory mitigation; and refining the protection of vulnerable wetlands and aquatic resources. States, Tribes, local governments (S/T/LGs), interstate associations, intertribal consortia, and national non-profit, non-governmental organizations are eligible to apply. This document describes the grant selection and award process for eligible applicants interested in applying for FY03 WPDGs.

FOR FURTHER INFORMATION CONTACT: Connie Cahanap, Office of Wetlands, Oceans, and Watersheds, Wetlands Division (MC 4502T), U.S. Environmental Protection Agency, 1200 Pennsylvania Avenue, NW., Washington, DC 20460, Telephone: (202) 566-1382, Fax: (202) 566-1349.

Robert H. Wayland III,
Director, Office of Wetlands, Oceans, and Watersheds.

I. Introduction

The goals of the Environmental Protection Agency's (EPA) wetland program include increasing the quantity and quality of wetlands in the U.S. by conserving and regaining wetland acreage and improving wetland health. In pursuing these goals, EPA seeks to build the capacity of all levels of government to develop and implement effective, comprehensive programs for wetland protection and management. The six program areas central to achieving these goals are: regulation, monitoring and assessment, restoration, wetland water quality standards, public-private partnerships, and coordination among agencies with wetland or wetland-related programs.

The Wetland Program Development Grants, initiated in FY90, provide States, Tribes, local governments (S/T/LGs), interstate associations, intertribal consortia, and national non-profit non-governmental organizations (hereafter referred to as award applicants or award recipients) an opportunity to carry out projects to develop and refine comprehensive wetland programs. Interest in the grant program has continued to grow over the years. Since 1995, Congress has appropriated $15 million annually to support the grant program. The type of projects that award recipients can undertake to develop and refine their comprehensive wetland programs are diverse. In the past, award recipients have pursued a wide range of activities, such as developing management tools for wetland resources, advancing scientific and technical tools for protecting wetland health, improving availability of data and information about wetlands, and training wetland managers and the public about wetland and watershed values. Appendix B lists other examples of potentially eligible projects.

The statutory authority for WPDGs is section 104(b)(3) of the Clean Water Act (CWA). Section 104(b)(3) of the CWA restricts the use of these grants to developing and refining wetland management programs by conducting or promoting the coordination and acceleration of research, investigations, experiments, training, demonstrations, surveys, and studies relating to the causes, effects, extent, prevention, reduction, and elimination of water pollution. These grants may not be used for the operational support of wetland programs. All projects funded through this program must contribute to the overall development and improvement of S/T/LG wetland programs. Award applicants must demonstrate that their proposed project integrates with S/T/LG wetland programs.

The general award and administration process for WPDGs are governed by regulations at 40 CFR part 30 (“Grants and Agreements with Institutions of Higher Education, Hospitals, and Other Non-Profit Organizations”), 40 CFR part 31 (“Uniform Administrative Requirements for Grants and Cooperative Agreements to State and Local Governments”) and 40 CFR part 35, subpart A (“Environmental Program Grants for State, Interstate, and Local Government Agencies”) and subpart B (“Environmental Program Grants for Tribes”). This grant guideline document outlines the administrative and programmatic procedures specific to the Wetland Program Development Grants.

II. Program Priorities

EPA has initiated an assessment of the wetland program elements that will move S/T/LGs toward developing comprehensive wetland programs. For FY03, the wetland program has identified three areas as program priorities for improving S/T/LG's ability to protect and restore their wetlands: (1) Developing a comprehensive wetland monitoring and assessment program; (2) improving the effectiveness of compensatory mitigation; and (3) refining the protection of vulnerable wetlands and aquatic resources. Applicants are encouraged to develop WPDG applications that address these priorities.

A. Developing a Comprehensive Monitoring and Assessment Program

This solicitation seeks proposals that support the development of a comprehensive S/T/LG wetland monitoring and assessment program. State and Tribal adoption of an ambient wetland monitoring and assessment program is the primary goal of this solicitation (i.e., projects that build S/T/LG capacity to determine the causes, effects, and extent of pollution to wetland resources and develop pollution prevention, reduction, and elimination strategies). More information related to wetland monitoring and assessment can be found on the Internet at: http://www.epa.gov/owow/wetlands/factsheets/monitor.pdf and http://www.epa.gov/owow/wetlands/factsheets/devgrants.pdf.

Project proposals may address development, testing, and demonstration of methods and programs to monitor and assess wetlands. Projects may evaluate:

1. The use of biological assessment methods to improve the evaluation and ranking of potential wetland sites for restoration or acquisition;

2. The ecological consequences of a given regulatory action or group of actions;

3. The specifications and implementation of compensatory wetland mitigation;

4. The ecological performance of wetland restoration; and/or

5. The cumulative effect of wetland loss and restoration in terms of change in the ambient ecological condition of the overall aquatic resource.

Proposals should address how work to accomplish the particular objective(s) assists S/T/LGs to implement comprehensive wetland monitoring and assessment programs.

Proposals also should describe how methods under development will improve decision-making across various surface water management programs. Provisional reporting of ambient wetland condition, in Clean Water Act Section 305(b) reports, is a logical first step toward meeting that particular objective. When preparing proposals, care should be given to ensure that any data collected under the grant is of such qualitythat it can be relied on for other purposes (as appropriate). Accordingly, applicants may host technical training workshops, establish regional or State interagency wetland monitoring and assessment workgroups, develop volunteer monitoring programs, and improve wetland inventories (e.g., use of hydrogeomorphic (HGM) wetland classification system). Examples of case studies illustrating wetland monitoring and assessment methods can be found on the Internet at: http://www.epa.gov/owow/wetlands/bawwg/case.html and http://www.epa.gov/region1/eco/wetland/index.html. Many of the case studies listed on those Web sites were funded by WPDGs.

Monitoring data collected from wetland monitoring projects must be incorporated into 305(b) reports. Additionally, recipients must download data collected through monitoring projects into STORET (short for STOrage and RETrieval).STORET provides an accessible, nationwide central repository of water information of known quality. See www.epa.gov/storet for further information about uploading data into STORET.

B. Improving the Effectiveness of Compensatory Mitigation

Priority will also be given to projects that improve S/T/LG capacity to ensure ecologically effective compensatory mitigation for unavoidable impacts. For example, WPDGs can be used to develop and verify assessment methods and/or tracking (reporting) systems that document:

1. The technical adequacy of compensatory mitigation project plans (e.g., plan review standards);

2. the ecological suitability of proposed compensatory mitigation project sites (e.g., develop site review standards in context with restoration opportunity mapped at the watershed scale);

3. the compliance of mitigation projects at various stages of implementation; and

4. the assessment of mitigation opportunities to address cumulative impacts to wetlands.

WPDG can also be used to develop mitigation performance standards. Grant funds can only be used forresearch, investigations, experiments, training, demonstrations, surveys, and studies to support (or to improve or develop) mitigation programs; they cannot be used for specific mitigation activities (e.g., implementation of individual mitigation projects, mitigation banks, or in-lieu-fee mitigation programs). Background information describing concepts and methods for improving the effectiveness of compensatory mitigation can be found in a recent National Academy of Science publication, entitled “Compensating for Wetland Losses Under the Clean Water Act.” The document can be found on the Internet at: http://www.nap.edu/books/0309074320/html/.

C. Refining the Protection of Vulnerable Wetlands and Aquatic Resources

While all wetlands provide important ecological functions on a watershed scale, some are better protected than others. For example, isolated wetlands and waters may be particularly at risk as may wetlands subject to damage from activities other than the discharge of dredged or fill material. S/T/LG wishing to develop comprehensive wetland protection programs to protect such vulnerable waters from a variety of potential impacts are encouraged to do so. Efforts can include, but are not limited to, information dissemination, data exchange, studying S/T/LG regulatory improvement opportunities, and surveying opportunities for land acquisition, conservation easements, and tax incentive provisions. This grant program, however, cannot fund activities to implement a wetlands program, or fund the purchase of land or conservation easements (see Appendix A for Grant Restrictions).

D. Other Program Areas

While WPDGs may be used by award recipients to develop and refine all elements of a comprehensive wetland program (see examples in Appendix B), in this and upcoming years, funding priority will be given to projects that address the three priority areas discussed above.

III. Funding Eligibility

States, Tribes, local government agencies, interstate agencies, and intertribal consortia, and national, nonprofit, non-governmental organizations are eligible. Typical wetland or wetland related agencies include, but are not limited to wetland regulatory agencies, water quality agencies (Section 401 water quality certification), planning offices, wild and scenic rivers agencies, departments of transportation, fish and wildlife or natural resources agencies, agriculture departments, forestry agencies, coastal zone management agencies, park and recreation agencies, non-point source or storm water agencies, city or county and other S/T/LG governmental agencies that conduct wetland-related activities.

In order to be eligible for WPDG funds, Tribes must be Federally recognized, although “Treatment as a State” status is not a requirement. Intertribal consortia that meet the requirements of 40 CFR part 35.504 are eligible for direct funding.

Interstate agency and intertribal consortia projects must be broad in scope and encompass more than one State, Tribe, or local government.

In order to provide greater assistance to S/T/LGs, non-profit, non-governmental organizations which undertake activities that advance wetland programs on a national basis are eligible. Activities must help S/T/LGs develop and refine wetland programs. For example, projects and tasks can involve advancing science or collecting and making available through publications and other appropriate means, such as training on how information about how various wetland programs across the nation protect, manage and restore their wetland resources and about initiatives to improve S/T/LG wetland programs. Local/regional chapters/affiliations of a nonprofit organization are not eligible for WPDGs and applications will only be accepted from the national headquarters level of a nonprofit, non-governmental organization.

Grant funds are awarded through a competitive process. The majority of WPDG funds are allocated to EPA Regional Offices, based on the number of States and Territories within the Region, to fund S/T/LG, interstate agencies, and intertribal consortia. Headquarters reserves a portion of the funds for national non-profit, non-governmental organizations, interstate agencies, and intertribal consortia. (see Section V for Application Procedures). Funding decisions are made by EPA Regional and Headquarters Offices and are based on the quality of the proposals received and adherence to the selection criteria (see Section IV). EPA typically receives requests for funding far in excess of available funds, therefore EPA cannot provide grant funds to all applicants.

IV. Selection Criteria

For FY03, priority in the selection process will be given to projects which support the development of a S/T/LG's monitoring and assessment program, improvement of the effectiveness of compensatory mitigation, or protection of vulnerable wetlands and aquatic resources. In addition, all proposals, regardless of topic area, will be evaluated using the following general categories of criteria:

• Clarity of Work Plan—clearly written and detailed proposals;

• Potential Environmental Results—a high probability for positive environmental results in the short- and long-term;

• Transferability of Results and/or Methods to other S/T/LG;

• Success of Previous Projects—for applicants who have received prior EPA funding;

• Involvement/Commitment of the applicant—significant financial and personnel contribution and involvement of partners;

• Incorporation of project into broad agency goals (Core Elements of a Comprehensive Wetland Program is available on EPA's web page at http://www.epa.gov/owow/wetlands/initiative/#financial or by mail upon request by calling the Wetlands Helpline at (800) 832-7828).

V. Application Procedures

WPDG applications from States, Tribes, and local governments are handled through EPA Regional Offices, while applications from national non-profit, non-governmental organizations are handled through EPA Headquarters (Appendix C). Applications from interstate agencies and intertribal consortia can be submitted to either a Regional Office or Headquarters, however, the same proposals cannot be submitted to more than one office. Headquarters and Regional Office staff will review the applications received in their respective offices and select the most competitive projects for funding. Both the quality and quantity of the applications will play a significant role in the selection of grants for funding.

A. Application Package

Interested applicants must submit an application, which includes a work plan and completed EPA grant forms. As provided in 40 CFR 35.107 and 35.507, for States, Tribes, local governments, interstate agencies, and non-profit organizations, an approvable plan must specify (1) the work plan components to be funded under the grant; (2) the estimated work years and the estimated funding amounts for each work plan component; (3) the work plan commitments for each work plan component and a time frame for their accomplishment; (4) a performance and reporting schedule in accordance with 40 CFR 35.115 or 35.515; and (5) the roles and responsibilities of the recipient and EPA in carrying out the work plan commitments. For national nonprofit organizations, work plans must include: (1) A summary of key objectives and final products, preferably in 50 words or less; (2) a detailed description of project tasks and an explanation of how the project will contribute to developing or improving a S/T/LG's wetland program; (3) a time-line; (4) a budget and estimated funding amounts for each work plan component; (5) deliverables; (6) a performance evaluation process and reporting schedule; (7) roles and responsibilities of the recipient and EPA in carrying out the work plan commitments; and (8) contact information for the Program Manager, Grant Project Lead Manager, and Account Manager. Headquarters and some Regional Offices may ask S/T/LGs to submit pre-application proposals of grant projects for competitive review (see Section V Part B for deadlines). For specific regional guidance, contact your Regional or Headquarters EPA Grant Coordinator (Appendix C). Grant application forms are available at http://www.epa.gov/ogd/hqgrant/ and by mail upon request by calling the Grants Administration Division at (202) 564-5305.

B. Deadlines

Full application proposals must be submitted to the appropriate EPA office and postmarked by the appropriate Regional and Headquarters deadlines:

Region 1

States: January 31, 2003

Tribes: June 30, 2003

Region 2

January 31, 2003

Region 3

Pre-proposal: October 9, 2002

Final proposal: January 15, 2003

Region 4

December 2, 2002

Region 5

December 20, 2002

Region 6

November 1, 2002

Region 7

December 2, 2002

Region 8

December 3, 2002

Region 9

Pre-proposal: October 11, 2002

Final proposal: February 14, 2003

Region 10

Pre-proposal: November 4, 2002

Final proposal: February 21, 2003

Headquarters

Pre-proposal: December 9, 2002

Final proposal: March 22, 2003

Please contact the appropriate Grants Coordinator (Appendix C) for further information and/or to confirm deadlines.

Applicants may request limited assistance in revising work plans, proposed funding levels to better reflect the funding available, and preliminary proposals to develop a project that better reflects program priorities.

C. Match Requirements

S/T/LG, interstate agencies, and intertribal consortia must provide a minimum of 25% of each award's total project costs in accordance with 40 CFR 31.24, 35.385, and 35.615. We encourage States, Tribes and local governments to provide a larger share of the project's cost whenever possible (i.e., in excess of the required 25% of total project costs). Non-profit, non-governmental organizations must also provide a minimum of 25% of each award's total project costs.

The match requirement can be met with contributions from entities other than the award recipient. Other Federal money cannot be used as the match for this grant program unless authorized by the statute governing the award of the other Federal funds. However, Indian tribes can use funds provided under the Indian Self-Determination and Education Act (25 U.S.C. 450 et seq.) to provide the required matching funds to the extent authorized by that Act and implementing regulations.

Matching funds are considered grant funds. They may be used for the reasonable and necessary expenses of carrying out the work plan. Any restrictions on the use of grant funds (i.e., prohibition of land acquisition with grant funds) also apply to the use of matching funds.

D. Quality Assurance/Quality Control (QA/QC)

QA/QC and peer review are sometimes applicable to these grants (see 40 CFR 30.54 and 40 CFR 31.45). QA/QC requirements apply to the collection of environmental data. Environmental data are any measurements or information that describe environmental processes, location, or conditions; ecological or health effects and consequences; or the performance of environmental technology. Environmental data include information collected directly from measurements, produced from models, and compiled from other sources such as data bases or literature. Applicants should allow sufficient time and resources for this process. EPA can assist applicants determine whether QA/QC is required for the proposed project. If QA/QC is required for the project, the applicant is encouraged to work with the appropriate EPA quality staff to determine the appropriate QA/QC practices for the project. If the applicant has an EPA-approved quality assurance project plan and it covers the project in the application, then they need only reference the plan in their application. Contact the appropriate Regional or Headquaters Grant Coordinator (Appendix C) for referral to an EPA quality staff.

VI. Additional Program Information

A. Performance Partnership Grants

A Performance Partnership Grant (PPG) is a multi-program grant made to a State, Tribe, interstate agency, or intertribal consortium from funds appropriated for many of EPA's environmental program grants. Local governments are not eligible for PPGs. PPGs are voluntary and provide recipients the option to combine funds from two or more environmental program grants into one or more PPGs. PPGs can provide administrative and/or programmatic flexibility.

Funds for a WPDG may be included in a PPG; however, the WPDG program remains a competitive grant program. Therefore, State proposals must first be selected under the competitive grant process and, in accordance with 40 CFR 35.138, the work plan commitments that would have been included in the WPDG work plan must be included in the PPG work plan. Similarly, Tribal proposals must first be selected under the competitive grant process, and in accordance with 40 CFR 35.535. If the applicant proposes a PPG work plan that differs significantly from the proposed WPDG work plan approved for funding, the Regional Administrator must first consult with the National Program Manager for WPDGs before agreeing to the PPG work plan.

For further information, see the final rules on Environmental Program Grants for State, Interstate, and Local Government Agencies at 40 CFR part 35, subpart A and Tribes at 40 CFR part 35, subpart. The rules are also available on EPA's Web site at: http://www.epa.gov/fedrgstr/EPA-TOX/2001/Day-09/t218.htm (State) and at http://www.epa.gov/fedrgstr/EPA-GENERAL/2001January/Day-16/g219.htm (Tribal).

B. Local and Tribal Funding Targets

Each Regional Office will support the local government initiative and Tribal efforts by targeting at least 15% of their Regional allocation to local government and Tribal applications.

C. Reporting

WPDGs are currently covered under the following EPA grant regulations: 40 CFR part 30 (non-profit organizations); 40 CFR part 31 (States, Tribes, interstate agencies, intertribal consortia and local governments) and 40 CFR part 35, subpart A (States, interstate agencies and local governments) and subpart B (Tribes and intertribal consortia). These regulations specify basic grant reporting requirements, including performance and financial reports (see 40 CFR 30.51, 30.52, 31.40, 31.41, 35.115, and 35.515). In negotiating these grants, EPA will work closely with recipients to incorporate appropriate performance reporting requirements into each grant agreement consistent with 40 CFR 30.51, 31.40, 35.115, and 35.515. These regulations provide some flexibility in determining the appropriate content and frequency of performance reports. At a minimum, however, the reporting schedule must require the recipient to report at least annually.

D. Public Participation

EPA regulations require public participation in various Clean Water Act programs including grants (40 CFR Part 25). Each applicant for EPA financial assistance shall include tasks for public participation in their project's work plan submitted in the grant application (40 CFR 25.11). The project work plan should reflect how public participation will be provided for, assisted, and accomplished.

E. Annual Wetlands Meeting/Training

EPA encourages S/T/LGs to include travel plans for wetland personnel to attend at least one national wetland meeting in support of the project or for training each year (e.g., National EPA, State, Tribal, Local Wetland Meeting, wetland monitoring workshops). Applicants should account for travel plans and costs in the work plans and the project budget. EPA's Wetlands Division does not anticipate providing travel for State, Tribal or local government staff to attend meetings other than through this grant program.

Appendix A—Grant Restrictions

Based on experience gained from previous years and policy and regulation, we offer the following comments/restrictions on funding eligibility.

• Universities that are agencies of State government are eligible to receive grant funds from the Regional Offices. Universities must provide documentation acceptable to the EPA Regional Office to demonstrate that they function as a State agency. Universities (that are not chartered as a part of State government) are not eligible for direct funding from the Regional Offices. Also, any award recipients may award such entities contracts in accordance with 40 CFR 31.36, and subgrants in accordance with 40 CFR 31.37. The State, Tribe, local agency, or national non-profit organization should not simply pass through funding to an organization that is not eligible to receive funding directly. Land grant schools do not automatically qualify for direct funding as an agency of state because of their status as a land grant school.

• This grant program cannot fund land acquisition or purchase of easements. However, this program may support research, investigations, experiments, training, demonstrations, surveys, and study efforts directed at identifying areas for acquisition, which would help address water pollution problems.

• This grant program cannot fund payment of taxes for landowners who have a wetland on their property.

• While contractual efforts can be a part of these grants, each recipient must be significantly involved in the administration of the grant. EPA recommends that recipients use no more than 50% of the grant funds to contract with non-governmental entities. However, if the applicant wants to exceed this limit, the applicant may submit a written justification for greater involvement by non-governmental contractors. EPA will evaluate the need for greater contractual participation and may approve the request if they agree that there is adequate justification to exceed the 50% limit. For the purposes of this requirement, EPA will not consider work performed under a contract with other S/T/LG agencies, interstate associations, and intertribal consortia. If the contractual work is being done by another S/T/LG agency, interstate agencies, or intertribal consortia, these should be clearly indicated in the grant application.

• Inventory or mapping for the sole purpose of locating wetlands is not eligible for funding under this grant program. A description of how mapping or inventory projects will directly develop or improve the eligible applicant's wetland protection programs must be included in the grant application for these types of projects to be considered for funding under this grant program.

• Each grant project must be completed with the initial award of funds. Recipients should not anticipate additional funding beyond the initial award of funds for a specific project. Eligible applicants should request the entire amount of money needed to complete the project in the original application. Each grant should produce a final, discrete product. Funding and project periods can be for more than one year.

• Grant funds cannot be used to fund an honorarium under this program.

• Any field work or research-type activities are limited to activities that have a direct, demonstrated link to program development or refinement included in the application.

• Purchase/lease of vehicles (including boats, motor homes) and office furniture is not eligible for funding under this program.

• Grant funds cannot be used to pay for travel by Federal agency staff unless travel costs are related to the grant project.

Appendix B—Example WPDG Project Topics

EPA has developed a database of all projects supported through the Wetland Program Development Grants funding. This searchable database is available on EPA's web page at: http://yosemite.epa.gov/water/grant.nsf.

Projects must be in support of conducting or promoting the coordination and acceleration of research, investigations, experiments, training, demonstrations, surveys, and studies relating to the causes, effects, extent, prevention, reduction, and elimination of water pollution. The following is a list of examples of projects that may be funded through Wetland Program Development Grants:

• Comprehensive planning of wetland resources;

• Research, investigations, experiments, training, demonstrations, surveys, and studies in support of integration of wetland management into broad watershed protection approaches;

• Development of S/T/LG Wetland Conservation Plans (WCP);

• Development of a framework for assuming the CWA Section 404 program;

• Development of a framework for implementing a Programmatic General Permits program;

• Development of widely applicable model wetland training programs for S/T/LGs;

• Development of wetland water quality standards, or refining criteria to appropriately reflect water quality conditions in wetlands;

• Research, investigations, experiments, training, demonstrations, surveys, and studies in support of wetland and riparian restoration programs;

• Development, demonstration, and refinement of wetland bioassessment methods and programs to evaluate wetland health and performance of protection and restoration activities;

• Development of and/or participation in training that builds watershed and wetland partnership and technical skills (e.g., the Watershed Academy); and

• Development of outreach programs that improve public understanding of S/T/LG wetland protection and regulatory efforts and facilitate public-private partnerships and wetland restoration efforts.

This is not an exhaustive list, and eligible applicants may submit any eligible proposal for wetland program development that addresses EPA's goals and criteria outlined in this document.

Appendix C—Regional Grant Coordinators

Region 1: Jeanne Cosgrove, cosgrove.jeanne@epa.gov—617-918-1669

Region 2: Kathleen Drake, drake.kathleen@epa.gov—212/637-3817

Region 3: Alva Brunner, brunner.alva@epa.gov—215/814-2715

Region 4: Sharon Ward, ward.sharon@epa.gov—404/562-9269

Region 5: Cathy Garra, garra.catherine@epa.gov—312/886-0241

Region 6: Sondra McDonald, mcdonald.sondra@epa.gov—214/665-7187

Region 7: Raju Kakarlapudi, kakarlapudi.raju@epa.gov—913/551-7320

Region 8: Ed Stearns, stearns.edward@epa.gov—303/312-6946

Region 9: Cheryl McGovern, mcgovern.cheryl@epa.gov—415/744-2013

Region 10: David Kulman, kulman.david@epa.gov—206/553-6219

Headquarters:

Connie Cahanap, cahanap.concepcion@epa.gov—202/566-1382

Donna An, an.donna@epa.gov—202/566-1384

[FR Doc. 02-21670 Filed 8-23-02; 8:45 am]

BILLING CODE 6560-50-P